NUCLEAR REGULATORY COMMISSION

[Docket No. 40-8502; NRC-2009-0036]

Notice of Availability of Environmental Assessment and Finding of No Significant Impact for License Renewal for Uranium One USA Inc., Irigaray and Christensen Ranch Uranium In-Situ Recovery Projects (Willow Creek Project), Wyoming

AGENCY: Nuclear Regulatory Commission.

ACTION: Notice of availability.

FOR FURTHER INFORMATION CONTACT: Ron C. Linton, Project Manager, Uranium Recovery Licensing Branch, Division of Waste Management and Environmental Protection, Office of Federal and State Materials and Environmental Management Programs, U.S. Nuclear Regulatory Commission, Washington, DC 20555. Telephone: 301-415-7777; Fax number: 301-415-5369; E-mail: Ron.Linton@nrc.gov.

SUPPLEMENTARY INFORMATION:

I. Introduction

The U.S. Nuclear Regulatory Commission (NRC) is considering the renewal of Source Materials License SUA-1341 for the continued uranium production operations and the recovery of uranium by in-situ recovery (ISR) at the Irigaray and Christensen Ranch facilities in Johnson and Campbell Counties, Wyoming (Willow Creek Project). The NRC has prepared an Environmental Assessment (EA) in support of this proposed license renewal in accordance with the requirements of 10 CFR part 51. Based on the EA, the NRC has concluded that a Finding of No Significant Impact (FONSI) is appropriate. The NRC is also conducting a safety evaluation of the proposed license renewal, pursuant to 10 CFR part 40. The results of the safety evaluation will be documented in a separate Safety Evaluation Report. If approved, the NRC will issue the renewed license following the publication of this notice.

II. EA Summary

The proposed licensing action is to renew Source Materials License SUA-1341 for a 10-year period to authorize Uranium One USA, Inc. to continue ISR operations at the Irigaray and Christiansen Ranch facilities in Campbell and Johnson Counties, Wyoming. On May 30, 2008, COGEMA Mining, Inc. (COGEMA) submitted an application to renew Source Materials License SUA-1341. A Notice of License Renewal Request and an Opportunity for Hearing was published in the Federal Register on February 9, 2009 (74 FR 6436). In response, the Oglala Delegation of the Great Sioux Nation Treaty Council (Delegation) and the Powder River Basin Resource Council (Council) filed petitions to intervene and requests for hearing. For reasons stated in the Memorandum and Order LBP-09-13, dated July 23, 2009, the Atomic Safety and Licensing Board concluded that neither the Delegation nor the Council demonstrated standing as required by 10 CFR 2.309(a). Therefore, the petitions were denied.

During the NRC's review of the license renewal request, the Irigaray and Christensen Ranch ISR Project underwent a change in control from COGEMA Mining, Inc. to Uranium One, Inc. (Uranium One). Subsequently, the Irigaray and Christensen Ranch ISR Project underwent a second change in control and ownership from Uranium One to Rosatom, through JSC Atomredmetzoloto (ARMZ). While the parent company changed to Rosatom, Uranium One USA, Inc., a daughter company of Uranium One and Rosatom, remains the licensee.

The staff has prepared an EA in support of the proposed license renewal. Staff considered the following environmental resource areas in its evaluation: Land use; transportation; socioeconomics; air quality; water quality and use; geology and soils; ecology; noise; historical and cultural; scenic and visual; public and occupational health and safety; and waste management. The environmental impacts on these resource areas were determined to be small. The license renewal request does not require altering the site footprint nor does it change the operating processes of the existing facility; therefore, there are no anticipated significant impacts on land use, noise, historic and cultural, scenic and visual, or ecological resources. The proposed action will not adversely affect Federal or state-listed threatened or endangered species. Public and occupational exposures are below the limit established in 10 CFR Part 20. Uranium One USA, Inc. maintains acceptable waste management practices and procedures. The staff concluded that the proposed 10-year renewal of Source Materials License SUA-1341 will not result in a significant impact to the environment.

NRC staff consulted with other agencies regarding the proposed action, including the Wyoming State Historic and Preservation Office, Wyoming Department of Environmental Quality, Buffalo Field Office of the Bureau of Land Management, the Eastern Shoshone Tribe, the Northern Arapaho Tribe, the Northern Cheyenne Tribe, the Blackfeet Nation, Three Affiliated Tribes (Mandan, Hidatsa, and Arikara), the Ft. Peck Assiniboine/Sioux, the Oglala Sioux Tribe, the Crow Nation, and the Cheyenne River Sioux Tribe. The consultations ensured that the requirements of Section 7 of the Endangered Species Act and Section 106 of the National Historic Preservation Act were met and provided the designated state liaison agency the opportunity to comment on the proposed action.

III. Finding of No Significant Impact

On the basis of the EA, the NRC has concluded that the proposed license renewal will not significantly affect the quality of the human environment. Therefore, preparation of an environmental impact statement is not warranted for the proposed action and a finding of no significant impact is appropriate.

IV. Further Information

Documents related to this action, including the license renewal application and supporting documentation, are available online in the NRC Library at http://www.nrc.gov/reading-rm/adams.html. From this site, you can access the NRC's Agencywide Document Access and Management System (ADAMS), which provides text and image files of NRC's public documents. The ADAMS accession numbers for the documents related to this notice are provided in the following table:

Document | ADAMS accession No.
License Renewal Application | ML081850689
NRC letter to COGEMA—Request for Additional Information (RAI) | ML090750369
COGEMA Letter to NRC—Response to RAI | ML092110694
NRC Letter to Uranium One—RAI | ML100610326
Uranium One Letter to NRC—Response to RAI | ML103081071
NRC Consultation Letters | ML090400214 (package)
NRC Letter to Wyoming State Historic Preservation Office | ML090400252
NRC Letter to U.S. Fish and Wildlife Service | ML090400244
NRC Letter to Wyoming Department of Environmental Quality (WDEQ) | ML090400231
NRC Letter to Blackfeet Nation | ML090400292
NRC Letter to Cheyenne River Sioux Tribe | ML090400261
NRC Letter to Crow Nation | ML090400267
NRC Letter to Ft. Peck Sioux | ML090400279
NRC Letter to Northern Arapaho Tribe | ML090400301
NRC Letter to Northern Cheyenne Tribe | ML090400295
NRC Letter to Oglala Sioux Tribe | ML090400273
NRC Letter to Eastern Shoshone Tribe | ML090400308
NRC Letter to Three Affiliated Tribes | ML090400287
NRC Draft EA transmittal letter to Bureau of Land Management (BLM) Buffalo Field Office and WDEQ | ML100210638
BLM response to EA review request | ML102360242
Final Environmental Assessment | ML103270681

If you do not have access to ADAMS or if there are problems in accessing the documents located in ADAMS, contact the NRC's Public Document Room (PDR) Reference staff at 1-800-397-4209, 301-415-4737 or by e-mail to PDR.Resource@nrc.gov.

These documents may also be viewed electronically on the public computers located at the NRC's PDR, O 1 F21, One White Flint North, 11555 Rockville Pike Rockville, MD 20852. Hard copies of the documents are available from the PDR for a fee.

Dated at Rockville Maryland, 7th day of July 2011.
For the Nuclear Regulatory Commission.
Andrew Persinko,
Deputy Director, Environmental Protection and Performance Assessment Directorate, Division of Waste Management and Environmental Protection, Office of Federal and State Materials and Environmental Management Programs.

[FR Doc. 2011-17731 Filed 7-13-11; 8:45 am]

BILLING CODE 7590-01-P